DEPARTMENT OF HEALTH AND HUMAN SERVICES

Health Resources and Services Administration

Statement of Organization, Functions and Delegations of Authority

This notice amends Part R of the Statement of Organization Functions and Delegations of Authority of the Department of Health and Human Services (HHS), Health Resources and Services Administration (HRSA) as most recently amended at (60 FR 56605, November 6, 1995 as last amended at 66 FR 56333, dated November 7, 2001).

This notice reflects organizational changes in the Office of Information Technology, Office of the Administrator; the Division of Management Services, Office of Management and Program Support; and the HIV/AIDS Bureau. Make the following changes:

A. In the Office of Information Technology (RAG), Establish the Division of Knowledge Management Services

Division of Knowledge Management Services (RAG1)

Develops and maintains an overall knowledge management strategy for HRSA that is integrated with HHS and government-wide strategies. Specifically: (1) Identifies information needs across HRSA and develops approaches for meeting those needs; (2) ensures that data required to satisfy enterprise information requirements are captured in appropriate enterprise applications and summarized in the Data Warehouse; (3) manages HRSA-wide working groups as necessary to integrate enterprise data architecture with business applications and to re-engineer business processes; and (4) enhances and expands use and usefulness of HRSA's Data Warehouse through providing basic analytic capacity and user support; developing and maintaining a range of information products; and demonstrating the potential uses of information in supporting management decisions.

B. In the Division of Management Services Remove the Tort Claims Function and Place It in the HIV/AIDS Bureau (RV)

Division of Management Services (RS1)

Provides Agency-wide leadership and direction in the areas of management policies and procedures and property management, and serves as the Executive Officer for the Office of Management and Program Support (OMPS) and for the Office of the Administrator (OA). Specifically: (1) Provides advice and guidance for the establishment or modification of organizational structures, functions, and delegations of authority; (2) conducts and coordinates the Agency's issuances, reports and mail management programs; (3) manages and maintains a records and forms management program for the Agency, this includes electronic data; (4) manages the intra- and interagency agreements process; (5) conducts Agency-wide management improvement programs; (6) conducts management and information studies and surveys; (7) oversees and coordinates the implementation of directives and policies relating to the Privacy Act; (8) plans, directs, and coordinates administrative management activities and services including personnel, financial, materiel management, and general administrative services for OA and OMPS; (9) acts for the Associate Administrator for Management and Program Support concerning space, parking, and communications management for headquarters and represents him/her in matters relating to the management of the Parklawn Building complex; (10) advises on and coordinates Agency-wide policies and procedures required to implement General Services Administration and Departmental regulations governing materiel management, including travel, transportation, motor vehicle, and utilization and disposal of property; (11) oversees and coordinates the Agency's committee management program; and (12) coordinates the Agency's Alternative Dispute Resolution (ADR) Program.

C. In the HIV/AIDS Bureau (RV) Revise the Functional Statement to Read

Provides leadership and direction for the HIV/AIDS programs and activities of the Bureau and oversees its relationship with other national health programs. Specifically: (1) Coordinates the formulation of an overall strategy and policy for HRSA AIDS programs; (2) coordinates the internal functions of the Bureau and its relationships with other national health programs; (3) establishes AIDS program objectives, alternatives, and policy positions consistent with broad Administration guidelines; (4) administers the Agency's AIDS grants and contracts programs; (5) reviews AIDS related program activities to determine their consistency with established policies; (6) represents the Agency and the Department at AIDS related meetings, conferences and task forces; (7) serves as principal contact and advisor to the Department and other parties concerned with matters relating to planning and development of health delivery systems relating to HIV/AIDS; (8) develops and administers operating policies and procedures for the Bureau; (9) directs and coordinates the Bureau activities in support of the Department/Bureau's Affirmative Action and Equal Employment Opportunity programs by ensuring that all internal employment practices provide an equal opportunity to all qualified persons and its employment practices do not discriminate on the basis of race, color, sex, age, national origin, religious affiliation, marital status, and that all external benefits and service oriented activities relative to the recipients of Federal funds are likewise addressed in accordance with applicable laws, Executive Orders, HHS regulations and policies; (10) provides direction to the Bureau's Civil Rights compliance activities; (11) directs and coordinates Bureau Executive Secretariat activities; (12) serves in developing and coordinating (telehealth) programs and in facilitating the electronic dissemination of best practices in health care to health care professionals; (13) directs the HRSA Center for Quality; and (14) coordinates the Department's tort claims panel and associated activities.

Delegation of Authority

All delegations and re-delegations of authorities to officers and employees of HRSA which were in effect immediately prior to the effective date of this action will be continued in effect in them or their successors, pending further re-delegation, provided they are consistent with this action. This document is effective upon date of signature.

Dated: July 1, 2002.
Elizabeth M. Duke,
Administrator.

[FR Doc. 02-17583 Filed 7-12-02; 8:45 am]

BILLING CODE 4165-15-P